INTERNATIONAL TRADE COMMISSION

[Investigation No. 337-TA-873]

Certain Integrated Circuit Devices and Products Containing the Same Commission Determination Not To Review an Initial Determination Granting an Unopposed Motion To Terminate the Investigation as to Remaining Respondents; Termination of Investigation

AGENCY: U.S. International Trade Commission.

ACTION: Notice.

SUMMARY: Notice is hereby given that the U.S. International Trade Commission has determined not to review the presiding administrative law judge's (“ALJ”) initial determination (“ID”) (Order No. 71) granting an unopposed motion to terminate the investigation as to remaining respondents HTC Corporation of Taiwan; HTC America, Inc., of Bellevue, Washington; LG Electronics, Inc., of the Republic of Korea; LG Electronics U.S.A., Inc., of Englewood Cliffs, New Jersey; LG Electronics MobileComm U.S.A., Inc., of San Diego, California; Motorola Mobility LLC, of Libertyville, Illinois; Nokia Corporation (Nokia Oyj), of Finland; Nokia, Inc., of Sunnyvale, California (collectively, “Remaining Respondents”) based upon withdrawal of the complaint under 19 CFR 210.21(a)(1).

FOR FURTHER INFORMATION CONTACT: Panyin A Hughes, Office of the General Counsel, U.S. International Trade Commission, 500 E Street SW., Washington, DC 20436, telephone 202-205-3042. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on March 15, 2013, based on a complaint filed by Tela Innovations, Inc., of Los Gatos, California (“Tela”). 78 FR 16533 (March 15, 2013). The complaint alleged violations of section 337 of the Tariff Act of 1930, as amended (19 U.S.C. 1337), in the importation into the United States, the sale for importation, and the sale within the United States after importation of certain integrated circuit devices and products containing the same by reason of infringement of various claims of U.S. Patent Nos. 8,264,049; 8,264,044; 8,258,550; 8,258,547; 8,217,428; 8,258,552; 8,030,689. The notice of investigation named the following entities as respondents: Motorola Mobility LLC, of Libertyville, Illinois (“Motorola”); Pantech Co., Ltd., of the Republic of Korea; Pantech Wireless, Inc., of Atlanta, Georgia (collectively, “Pantech”); and Remaining Respondents. The Office of Unfair Import Investigations is a party to the investigation.

On July 21, 2014, the ALJ issued IDs (Order Nos. 68 and 69), terminating the investigation as to Motorola and Pantech based upon settlement and consent order stipulations, respectively. The Commission determined not to review.

On July 31, 2014, Tela and Remaining Respondents filed a joint unopposed motion to terminate the investigation as to Remaining Respondents based upon (1) settlement under 19 CFR 210.21(b) or (2) withdrawal of the complaint under 19 CFR 210.21(a). On August 1, 2014, the Commission investigative attorney filed a response in support of the motion to terminate the investigation.

On August 1, 2014, the ALJ issued the subject ID, granting the motion to terminate the investigation as to Remaining Respondents. The ALJ found that the parties complied with the requirements of Commission rules 210.21(a)(1) and 210.21(b)(1) (19 CFR 210.21(a)(1), 210.21(b)(1)), and that terminating Remaining Respondents from the investigation would not be contrary to the public interest. None of the parties petitioned for review of the ID.

The Commission has determined not to review the ID and terminates Remaining Respondents under 19 CFR 210.21(a)(1), withdrawal of the complaint. This terminates the investigation in its entirety.

The authority for the Commission's determination is contained in section 337 of the Tariff Act of 1930, as amended (19 U.S.C. 1337), and in Part 210 of the Commission's Rules of Practice and Procedure (19 CFR part 210).

By order of the Commission.
Issued: August 28, 2014.
Lisa R. Barton,
Secretary to the Commission.

[FR Doc. 2014-20935 Filed 9-3-14; 8:45 am]

BILLING CODE 7020-02-P